FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than February 7, 2023.

A. Federal Reserve Bank of Dallas (Karen Smith, Director, Mergers & Acquisitions) 2200 N Pearl St., Dallas, TX 75201-2272 or electronically to Comments.applications@dal.frb.org:

1. The Dakri Grandchildren's 2022 GST Trust for Haaris A. Dakri, the Dakri Grandchildren's 2022 GST Trust for Minor Child 1, the Dakri Grandchildren's 2022 GST Trust for Minor Child 2, and Asif M. Dakri and Faizel M. Dakri as co-trustees of the aforementioned trusts, all of Houston, Texas; to join the Dakri Family Control Group, a group acting in concert, to acquire voting shares of Wallis Bancshares, Inc., and thereby indirectly acquire voting shares of Wallis Bank, both of Wallis, Texas.

Board of Governors of the Federal Reserve System.
Michele Taylor Fennell,
Deputy Associate Secretary of the Board.

[FR Doc. 2023-01197 Filed 1-20-23; 8:45 am]

BILLING CODE P